DEPARTMENT OF TRANSPORTATION

Federal Aviation Administration

14 CFR Part 39

[Docket No. FAA-2011-1091; Directorate Identifier 2011-NM-037-AD]

RIN 2120-AA64

Airworthiness Directives; EADS CASA (Type Certificate Previously Held by Construcciones Aeronauticas, S.A.) Airplanes

AGENCY: Federal Aviation Administration (FAA), DOT.

ACTION: Notice of proposed rulemaking (NPRM).

SUMMARY: We propose to adopt a new airworthiness directive (AD) for certain Model CN-235-100, CN-235-200, and CN-235-300 airplanes. This proposed AD results from mandatory continuing airworthiness information (MCAI) originated by an aviation authority of another country to identify and correct an unsafe condition on an aviation product. The MCAI describes the unsafe condition as:

EADS-CASA received reports of engine condition control cable * * * failures that, in one of the cases, occurred during the starting phase of one engine which led to an engine shut down following the procedures described within the Aircraft Operation Manual.

The investigation revealed that the cable failure is due to a fracture in the area of the pulley * * *. The root cause of the fracture is an unsuitable ratio between the diameter of the pulley and the cable type and diameter.

This condition, if not detected and corrected, could lead to the engine condition control cable failure and consequent runway excursion if it occurs during take-off or reduced control of the aeroplane if it occurs during flight.

* * * * *

The proposed AD would require actions that are intended to address the unsafe condition described in the MCAI.

DATES: We must receive comments on this proposed AD by December 9, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact EADS-CASA, Military Transport Aircraft Division (MTAD), Integrated Customer Services (ICS), Technical Services, Avenida de Aragón 404, 28022 Madrid, Spain; telephone +34 91 585 55 84; fax +34 91 585 55 05; e-mail MTA.TechnicalService@casa.eads.net; Internet http://www.eads.net. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Shahram Daneshmandi, Aerospace Engineer, International Branch, ANM-116, Transport Airplane Directorate, FAA, 1601 Lind Avenue, SW., Renton, Washington 98057-3356; telephone (425) 227-1112; fax (425) 227-1149.

SUPPLEMENTARY INFORMATION:

Comments Invited

We invite you to send any written relevant data, views, or arguments about this proposed AD. Send your comments to an address listed under the ADDRESSES section. Include “Docket No. FAA-2011-1091; Directorate Identifier 2011-NM-037-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0010, dated January 20, 2011 (referred to after this as “the MCAI”), to correct an unsafe condition for the specified products. The MCAI states:

EADS-CASA received reports of engine condition control cable (Part Number (P/N) 35-56382-0003) failures that, in one of the cases, occurred during the starting phase of one engine which led to an engine shut down following the procedures described within the Aircraft Operation Manual.

The investigation revealed that the cable failure is due to a fracture in the area of the pulley MS 20219-1. The root cause of the fracture is an unsuitable ratio between the diameter of the pulley and the cable type and diameter.

This condition, if not detected and corrected, could lead to the engine condition control cable failure and consequent runway excursion if it occurs during take-off or reduced control of the aeroplane if it occurs during flight.

To address this condition, EADS-CASA has developed an engine condition control cable P/N 35-56382-0005 with improved characteristics.

For the reason described above, this [EASA] AD requires, at first, [an inspection to determine the part number of the engine condition control cable] [repetitive detailed] inspections for [excessive wear] of the [affected] engine condition control cable, and its replacement (scheduled or depending of the inspection findings) with engine condition control cable P/N 35-56382-0005.

You may obtain further information by examining the MCAI in the AD docket.

Relevant Service Information

Airbus Military has issued Section 76-10-00, “Power and Condition Control,” Block 601 (Configuration 1), “Inspection/Check,” Paragraph 1.B.; and Section 76-10-12, “Power and Control Cables,” Block 401 (Configuration 1), “Removal/Installation,” Paragraph 3.; of the CN-235 Aircraft Maintenance Manual, Revision 57, dated July 15, 2010. The actions described in this aircraft maintenance manual are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 7 products of U.S. registry. We also estimate that it would take about 2 work-hours per product to comply with the basic requirements of this proposed AD. The average labor rate is $85 per work-hour. Based on these figures, we estimate the cost of the proposed AD on U.S. operators to be $1,190, or $170 per product.

In addition, we estimate that any necessary follow-on actions would take about 12 work-hours and require parts costing $1,087, for a cost of $2,107 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

EADS CASA (Type Certificate Previously Held by Construcciones Aeronauticas, S.A.): Docket No. FAA-2011-1091; Directorate Identifier 2011-NM-037-AD.

Comments Due Date

(a) We must receive comments by December 9, 2011.

Affected ADs

(b) None.

Applicability

(c) This AD applies to EADS CASA (Type Certificate previously held by Construcciones Aeronauticas, S.A.) Model CN-235-100, CN-235-200, and CN-235-300 airplanes; certificated in any category; serial numbers C-030 through C-149 inclusive.

Subject

(d) Air Transport Association (ATA) of America Code 76: Engine controls.

Reason

(e) The mandatory continuing airworthiness information (MCAI) states:

EADS-CASA received reports of engine condition control cable * * * failures that, in one of the cases, occurred during the starting phase of one engine which led to an engine shut down following the procedures described within the Aircraft Operation Manual.

The investigation revealed that the cable failure is due to a fracture in the area of the pulley * * *. The root cause of the fracture is an unsuitable ratio between the diameter of the pulley and the cable type and diameter.

This condition, if not detected and corrected, could lead to the engine condition control cable failure and consequent runway excursion if it occurs during take-off or reduced control of the aeroplane if it occurs during flight.

* * * * *

Compliance

(f) You are responsible for having the actions required by this AD performed within the compliance times specified, unless the actions have already been done.

Actions

(g) Within 9 months or 300 flight hours, whichever occurs first after the effective date of this AD, inspect to determine whether the engine condition control cable has part number (P/N) 35-56382-0003. If an engine condition control cable having P/N 35-56382-0003 is installed, within 9 months or 300 flight hours, whichever occurs first after the effective date of this AD, do a detailed inspection for excessive wear of the engine condition control cable (including control rods, levers and pulleys near the flight compartment center console having incorrect freedom and range of movement, incorrect assembly and locking, distortion, damage, corrosion, incorrect security of attachment; and control rod end fittings having excessive wear, i.e., kinks or distortion, corrosion, reduced diameter of cable, and broken wires); in accordance with Section 76-10-00, “Power and Condition Control,” Block 601 (Configuration 1), “Inspection/Check,” Paragraph 1.B., of the Airbus Military CN-235 Aircraft Maintenance Manual, Revision 57, dated July 15, 2010.

(h) For airplanes with engine condition control cable having P/N 35-56382-0003: Within 9 months or 300 flight hours after doing the detailed inspection required by paragraph (g) of this AD, whichever occurs first, repeat the detailed inspection specified in paragraph (g) of this AD.

(i) If, during any inspection required by paragraph (g) or (h) of this AD, excessive wear of the engine condition control cable is found: Before further flight, replace the engine condition control cable with P/N 35-56382-0005, in accordance with Section 76-10-12, “Power and Condition Control Cables,” Block 401 (Configuration 1), “Removal/Installation,” Paragraph 3., of the Airbus Military CN-235 Aircraft Maintenance Manual, Revision 57, dated July 15, 2010.

(j) Within 27 months or 900 flight hours, whichever occurs first after the effective date of this AD: Unless the engine condition control cable has already been replaced in accordance with paragraph (i) of this AD, replace the engine condition control cable having P/N 35-56382-0003 with an engine condition control cable having P/N 35-56382-0005, in accordance with Section 76-10-12, “Power and Condition Control Cables,” Block 401 (Configuration 1), “Removal/Installation,” Paragraph 3., of the Airbus Military CN-235 Aircraft Maintenance Manual, Revision 57, dated July 15, 2010.

(k) As of the effective date of this AD, no person may install an engine condition control cable having P/N 35-56382-0003, on any airplane.

FAA AD Differences

Note 1: This AD differs from the MCAI and/or service information as follows: No differences

.

Other FAA AD Provisions

(l) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to Attn: Shahram Daneshmandi, Aerospace Engineer, International Branch, ANM-116, Transport Airplane Directorate, FAA, 1601 Lind Avenue, SW., Renton, Washington 98057-3356; telephone (425) 227-1112; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(m) Refer to MCAI EASA Airworthiness Directive 2011-0010, dated January 20, 2011; and Section 76-10-00, “Power and Condition Control,” Block 601 (Configuration 1), “Inspection/Check,” Paragraph 1.B., and Section 76-10-12, “Power and Condition Control Cables,” Block 401 (Configuration 1), “Removal/Installation,” Paragraph 3., of the Airbus Military CN-235 Aircraft Maintenance Manual, Revision 57, dated July 15, 2010; for related information.

Issued in Renton, Washington, on October 13, 2011.
Ali Bahrami,
Manager, Transport Airplane Directorate, Aircraft Certification Service.

[FR Doc. 2011-27485 Filed 10-24-11; 8:45 am]

BILLING CODE 4910-13-P